DEPARTMENT OF ENERGY

Federal Energy Regulatory Commission

[Docket No. RP98-206-005]

Atlanta Gas Light Company; Notice of Technical Conference

April 7, 2000.

Take notice that a technical conference will be held on Wednesday, May 10, 2000, at 10 am, in a room to be designated at the offices of the Federal Energy Regulatory Commission, 888 First Street, NE, Washington, DC 20426.

All interested parties and staff are permitted to attend.

David P. Boergers,
Secretary.

[FR Doc. 00-9162 Filed 4-12-00; 8:45 am]

BILLING CODE 6717-01-M